DEPARTMENT OF AGRICULTURE

National Institute of Food and Agriculture

Notice of Intent To Revise a Currently Approved Information Collection

AGENCY: National Institute of Food and Agriculture, USDA.

ACTION: Notice and request for comments.

SUMMARY: In accordance with the Paperwork Reduction Act of 1995 (Pub. L. 104-13) and Office of Management and Budget (OMB) regulations at 5 CFR part 1320 (60 FR 44978, August 29, 1995), this notice announces the National Institute of Food and Agriculture's (NIFA) intention to revise a currently approved information collection entitled, “Research, Education, and Extension project online reporting tool (REEport).”

DATES: Written comments on this notice must be received by August 17, 2015, to be assured of consideration. Comments received after that date will be considered to the extent practicable.

ADDRESSES: Written comments may be submitted by any of the following methods: Email: rmartin@nifa.usda.gov; Fax: 202-720-0857; Mail: Office of Information Technology (OIT), NIFA, USDA, STOP 2216, 1400 Independence Avenue SW., Washington, DC 20250-2216.

FOR FURTHER INFORMATION CONTACT: Robert Martin, Records Officer; email: rmartin@nifa.usda.gov.

SUPPLEMENTARY INFORMATION:

Title: Reporting Requirements for Research, Education, and Extension project online reporting tool (REEport).

OMB Number: 0524-0048.

Expiration Date of Current Approval: January 31, 2018.

Type of Request: Revision of a currently approved information collection.

Abstract: The United States Department of Agriculture (USDA), NIFA administers several competitive, peer-reviewed research, education, and extension programs, under which awards of a high-priority are made. These programs are authorized pursuant to the authorities contained in the National Agricultural Research, Extension, and Teaching Policy Act of 1977, as amended (7 U.S.C. 3101 et seq.); Competitive, special, and facilities research grants (7 U.S.C. 450i) and other legislative authorities. NIFA also administers several formula funded research programs. The programs are authorized pursuant to the authorities contained in the McIntire-Stennis Cooperative Forestry Research Act of October 10, 1962 (16 U.S.C. 582a-1-582a-7); the Hatch Act of 1887, as amended (7 U.S.C. 4361a-361i); Section 1445 of Public Law 95-113, the Food and Agriculture Act of 1977, as amended (7 U.S.C. 3222); and Section 1433 of Subtitle E (Sections 1429-1439), Title XIV of Public Law 95-113, as amended (7 U.S.C. 3191-3201).

The purpose of this revision is to collect two new pieces of information as part of REEport: (1) Demographic data on grant participants, and (2) additional lines on the REEport Financial Report for “Non-Federal Funds” used on projects funded by NIFA.

Demographic Data: NIFA proposes to collect the following data as approved in the Research Performance Progress Report (RPPR). NIFA is being asked by other Federal Government entities for information regarding the demographics of grantee participants in research, higher education, and extension, including Project Directors, Co-Project Directors, Students, etc. Demographic data (i.e., gender, ethnicity, race, and disability status) should be provided directly by significant contributors, with the understanding that submission of such data is voluntary. There are no adverse consequences if the data are not provided. Confidentiality of demographic data will be in accordance with agency's policy and practices for complying with the requirements of the Privacy Act.

Gender

• Male;

• Female;

• Do not wish to provide

Ethnicity

• Hispanic or Latino;

• Not-Hispanic or not-Latino;

• Do not wish to provide

Race (Select One or More)

• American Indian or Alaska Native;

• Asian;

• Black or African American;

• Native Hawaiian or other Pacific Islander;

• White;

• Do not wish to provide

Disability Status

• Yes (check yes if any of the following apply to you)

• Deaf or serious difficulty hearing

• Blind or serious difficulty seeing even when wearing glasses

• Serious difficulty walking or climbing stairs

• Other serious disability related to a physical, mental, or emotional condition

No

• Do not wish to provide

Addition to the “Non-Federal Funds” Section of the REEport Financial Report: NIFA proposes to collect the following data as part of the REEport Financial Report:

Other Non-Federal Funds

• Foundation Funding

• International Funding

I. Demographic Data

Estimate of the Burden: The total reporting and record keeping requirements for the submission of the “Demographic Data on Grant Project Participants” is estimated to average 0.1 hour per response. This estimate is based on a percentage of 5 percent of the burden for a full Progress Report as previously approved by the Office of Management and Budget.

Estimated Number of Responses: 8700.

Estimated Burden per Response: 0.1 hours.

Estimated Total Annual Burden on Respondents: 870 hours.

Frequency of Responses: Annually.

II. Addition of Data to “Non-Federal Funds” Section of the REEport Financial Report

Estimate of the Burden: The total reporting and record keeping requirements for the submission of the “Non-Federal Funds” data on the REEport Financial Report is estimated to average 0.1 hour per response. This estimate is based on a percentage 5 percent of the burden for a full Financial Report as previously approved by the Office of Management and Budget.

Estimated Number of Responses: 8700.

Estimated Burden per Response: 0.1 hours.

Estimated Total Annual Burden on Respondents: 870 hours.

Frequency of Responses: Annually.

Comments: Comments are invited on: (a) Whether the proposed collection of information is necessary for the proper performance of the functions of the agency, including whether the information will have practical utility; (b) the accuracy of the agency's estimate of the burden of the proposed collection of information including the validity of the methodology and assumptions used. Comments should be sent to the address stated in the preamble.

All responses to this notice will be summarized and included in the request for OMB approval. All comments also will become a matter of public record.

Done at Washington, DC, this 5 day of June 2015.
Ann Bartuska,
Deputy Under Secretary, Research, Education, and Economics.

[FR Doc. 2015-14416 Filed 6-11-15; 8:45 am]

BILLING CODE 3410-22-P